DEPARTMENT OF COMMERCE

National Oceanic and Atmospheric Administration

RIN 0648-XB32

Small Coastal Shark 2007 Peer Review Workshop

AGENCY: National Marine Fisheries Service (NMFS), National Oceanic and Atmospheric Administration (NOAA), Commerce.

ACTION: Notice.

SUMMARY: NMFS announces the date, time, and location for the small coastal shark (SCS) Peer Review Workshop, the final of three stock evaluation workshops for the SCS stock assessment to be conducted in 2007. Any potential changes to existing management measures for SCS will be based, in large part, on the results of this 2007 stock assessment. The workshop is open to the public.

DATES: The Review Workshop will start at 1 p.m. on Monday, August 6, 2007, and will conclude at 1 p.m. on Friday, August 10, 2007.

ADDRESSES: The Review Workshop will be held at the Bay Point Marriott Resort, 4200 Marriott Drive, Panama City Beach, FL 32408.

FOR FURTHER INFORMATION CONTACT: Julie Neer at (850) 234-6541; or Karyl Brewster-Geisz at (301) 713-2347, fax (301) 713-1917.

SUPPLEMENTARY INFORMATION: The Atlantic shark fisheries are managed under the authority of the Magnuson-Stevens Fishery Conservation and Management Act. The Consolidated Highly Migratory Species (HMS) Fishery Management Plan (FMP) (October 2, 2006; 71 FR 58058) is implemented by regulations at 50 CFR part 635.

Stock assessments are periodically conducted to determine stock status relative to current management criteria. Collection of the best available scientific data and conducting stock assessments are critical to determine appropriate management measures for managing stocks. Based on the last SCS stock assessment in 2002, NMFS determined that the SCS complex and three of the species in that complex are not overfished with no overfishing occurring. The only exception was for finetooth sharks, where fishing mortality in some years was above the mortality level associated with producing maximum sustainable yield (MSY). Any potential changes to existing management measures for SCS will be based, in large part, on the results of this 2007 stock assessment.

This assessment will be conducted in a manner similar to the Southeast Data, Assessment, and Review (SEDAR) process. SEDAR is a cooperative process initiated in 2002 to improve the quality and reliability of fishery stock assessments in the South Atlantic, Gulf of Mexico, and U.S. Caribbean. SEDAR emphasizes constituent and stakeholder participation in assessment development, transparency in the assessment process, and a rigorous and independent scientific review of completed stock assessments. SEDAR is organized around three workshops. The first is a Data Workshop where datasets are documented, analyzed, and reviewed, and data for conducting assessment analyses are compiled. The second workshop is an Assessment Workshop where quantitative population analyses are developed and refined and population parameters are estimated. The third and final workshop is a Review Workshop where a panel of independent experts review the data and assessment and recommend the most appropriate values of critical population and management quantities. All workshops are open to the public. More information on the SEDAR process can be found at http://www.sefsc.noaa.gov/sedar/. The 2005/2006 large coastal shark stock assessment also followed this process.

NMFS announces the Peer Review Workshop, the third and final of three workshops for the SCS 2007 stock assessment. The Review Workshop will be held from August 6 - 10, 2007, at the Bay Point Marriott Resort in Panama City Beach, FL (see DATES and ADDRESSES). Prospective participants and observers will be contacted with the data workshop details. This workshop is open to the public. Persons interested in participating or observing the SCS Peer Review Workshop should contact Julie Neer (see FOR FURTHER INFORMATION CONTACT).

Special Accommodations

These meetings are physically accessible to people with disabilities. Requests for sign language interpretation or other auxiliary aids should be directed to Julie Neer at (850) 234-6541, at least 7 business days prior to the Assessment Workshop.

Authority: 16 U.S.C. 971 et seq.

Dated: July 11, 2007.
Alan D. Risenhoover,
Director, Office of Sustainable Fisheries, National Marine Fisheries Service.

[FR Doc. E7-13953 Filed 7-18-07; 8:45 am]

BILLING CODE 3510-22-S